DEPARTMENT OF TRANSPORTATION

Federal Railroad Administration

[Docket No. FRA-2024-0045]

Notice of Availability of a Final General Conformity Determination for the California High-Speed Rail System, Palmdale to Burbank Project Section

AGENCY: Federal Railroad Administration (FRA), U.S. Department of Transportation (DOT).

ACTION: Notice.

SUMMARY: FRA is issuing this notice to advise the public that it is making a Final General Conformity Determination for the Palmdale to Burbank Project Section of the California High-Speed Rail (HSR) System.

FOR FURTHER INFORMATION CONTACT: Lana Lau, Supervisory Environmental Protection Specialist, Environmental Policy, Office of Environmental Program Management, telephone: (202) 923-5314, email: Lana.Lau@dot.gov.

SUPPLEMENTARY INFORMATION: Pursuant to 23 U.S.C. 327 (section 327), the California High-Speed Rail Authority (CHSRA or Authority) has assumed FRA's environmental review responsibilities under the National Environmental Policy Act (NEPA; 42 U.S.C. 4321 et seq.). However, under section 327, FRA remains responsible for compliance with the Clean Air Act General Conformity requirements. In compliance with NEPA and the California Environmental Quality Act (CEQA), the Authority published a Final Environmental Impact Record/Final Environmental Impact Statement (EIR/EIS) for the Palmdale to Burbank Project Section of the California High-Speed Rail (HSR) System on May 24, 2024.

FRA prepared a Draft General Conformity Determination, pursuant to 40 CFR part 93, subpart B, which establishes the process for complying with the General Conformity requirements of the Clean Air Act. FRA published a notice in the Federal Register on April 2, 2024 at 89 FR 22766, advising the public of the availability of the Draft Conformity Determination for a 30-day review and comment period. The Draft Conformity Determination was published at http://www.regulations.gov, Docket No. FRA-2024-0045. The comment period of the Draft Conformity Determination closed on May 2, 2024. FRA received one non-substantive comment on the Draft General Conformity Determination that was not germane to FRA's air quality analysis or determination.

FRA prepared the Final General Conformity Determination pursuant to 40 CFR part 93 subpart B and based on the Authority's coordination with the U.S. Environmental Protection Agency (USEPA) and South Coast Air Quality Management District (SCAQMD). The Authority has also consulted with the USEPA on the overall approach to General Conformity. FRA's analysis of the Project's potential emissions, completed in close collaboration with CHSRA, found that construction period emissions would exceed the General Conformity de minimis threshold for nitrogen oxides (NOX) and carbon monoxide (CO) in certain calendar years. However, operation of the Project would result in an overall reduction of regional emissions of all applicable air pollutants and would not cause a localized exceedance of an air quality standard (during operations). Consistent with the General Conformity Rule, the Authority will ensure all remaining emissions that exceed de minimis thresholds, after implementation of impact avoidance and minimization features and onsite mitigation measures will be completely mitigated to zero through agreements with the applicable air districts. In addition, FRA concluded the Project would conform to the approved state implementation plan (SIP), based on localized CO modeling that shows that construction emissions exceeding the CO de minimis thresholds will not result in a violation of the National Ambient Air Quality Standards. Based on this commitment and the localized CO modeling, FRA determined the Project will conform to the requirements in the approved SIP.

The Final General Conformity Determination is available at http://www.regulations.gov, Docket No. FRA-2024-0045, and FRA's website at https://railroads.dot.gov/environment/environmental-reviews/clean-air-act-california-general-conformity-determinations.

Issued in Washington, DC.
Marlys Ann Osterhues,
Director, Office of Environmental Program Management.

[FR Doc. 2024-12646 Filed 6-7-24; 8:45 am]

BILLING CODE 4910-06-P